DEPARTMENT OF COMMERCE

National Oceanic and Atmospheric Administration

50 CFR Part 622

[Docket No. 200124-0029]

RTID 0648-XA413

Fisheries of the Caribbean, Gulf of Mexico, and South Atlantic; Reef Fish Fishery of the Gulf of Mexico; 2020 Red Snapper Private Angling Component Accountability Measure in Federal Waters Off Texas

AGENCY: National Marine Fisheries Service (NMFS), National Oceanic and Atmospheric Administration (NOAA), Commerce.

ACTION: Temporary rule, accountability measure.

SUMMARY: Through this temporary rule, NMFS implements accountability measures (AMs) for the red snapper recreational sector private angling component in the Gulf of Mexico (Gulf) off Texas for the 2020 fishing year. Based on information provided by the State of Texas Parks and Wildlife Department (TPWD), NMFS has determined that the 2019 Texas regional management area private angling component annual catch limit (ACL) for Gulf red snapper was exceeded. Therefore, NMFS reduces the 2020 private angling component ACL of Gulf red snapper for the Texas regional management area. This reduction will remain in effect through the remainder of the current fishing year on December 31, 2020, and is necessary to protect the Gulf red snapper resource.

DATES: This temporary rule is effective from 12:01 a.m., local time, on August 24, 2020, until 12:01 a.m., local time, on January 1, 2021.

FOR FURTHER INFORMATION CONTACT: Kelli O'Donnell, NMFS Southeast Regional Office, telephone: 727-824-5305, email: kelli.odonnell@noaa.gov.

SUPPLEMENTARY INFORMATION: The Gulf reef fish fishery, which includes red snapper, is managed under the Fishery Management Plan for the Reef Fish Resources of the Gulf of Mexico (FMP). The FMP was prepared by the Gulf of Mexico Fishery Management Council (Council) and is implemented by NMFS under the authority of the Magnuson-Stevens Fishery Conservation and Management Act (Magnuson-Stevens Act) through regulations at 50 CFR part 622. All red snapper weights discussed in this temporary rule are in round weight.

In 2015, Amendment 40 to the FMP established two components within the recreational sector fishing for red snapper: The private angling component, and the Federal charter vessel and headboat (for-hire) component (80 FR 22422, April 22, 2015). In 2020, NMFS implemented Amendments 50 A-F to the FMP, which delegated authority to the Gulf states (Louisiana, Mississippi, Alabama, Florida, and Texas) to establish specific management measures for the harvest of red snapper in Federal waters of the Gulf by the private angling component of the recreational sector (85 FR 6819, February 6, 2020). These amendments allocate a portion of the private angling ACL to each state, and each state is required to constrain landings to its allocation as part of state management.

As described at 50 CFR 622.39(a)(2)(i), the Gulf red snapper recreational sector quota (ACL) is 7.399 million lb (3.356 million kg) and the recreational private angling component quota (ACL) is 4.269 million lb (1.936 million kg). Also, as described at 50 CFR 622.23(a)(1)(ii)(E), the Texas regional management area private angling component ACL is 265,105 lb (120,250 kg). Regulations at 50 CFR 622.23(b) require that if a state's red snapper private angling component landings exceed the applicable state's component ACL, then in the following fishing year, that state's private angling ACL will be reduced by the amount of that ACL overage in the prior fishing year.

For the 2019 fishing year, the Texas recreational red snapper private component (private vessel and state charter vessels) was managed under an exempted fishing permit with a state ACL of 265,090 lb (120,243 kg). Amendment 50F provided that any overage of the 2019 Texas ACL would be applied to Texas's portion of the 2020 private angling ACL. NMFS has determined that landings of red snapper off Texas for the private angling component, which includes landings for charter vessels, in 2019 were 375,616 lb (170,377 kg); which is 110,526 lb (50,134 kg) greater than 2019 Texas allocation of the private angling component ACL. Accordingly, for the 2020 fishing year, this temporary rule reduces the Texas regional management area private angling component ACL for Gulf red snapper by the ACL overage amount of 110,526 lb (50,134 kg) and resulting in a revised private angling ACL for Texas of 154,579 lb (70,116 kg). Consistent with the reduction in the Texas regional management area private angling component ACL, NMFS also reduces the 2020 total recreational sector ACL to 7,288,474 lb (3,305,996 kg) and the total private angling component ACL to 4,158,474 lb (1,886,252 kg). The recreational private angling component ACLs for other Gulf state management areas for 2020 are unaffected by this notice. The reduction in the 2020 red snapper private angling component ACL for the Texas regional management area is effective at 12:01 a.m., local time, on August 24, 2020, and will remain in effect through the end of the fishing year on December 31, 2020.

The TPWD is responsible for ensuring that 2020 private angling component landings in the Texas regional management area do not exceed the adjusted 2020 Texas ACL. As described at 50 CFR 622.23(c), a Gulf state with an active delegation of state management of the red snapper private angling component may request that NMFS close all, or an area of, Federal waters off that state to the harvest and possession of red snapper by private anglers. At the request of Texas, for the 2020 fishing season, NMFS previously announced a closure date of August 3, 2020, for the red snapper private angling component in Gulf Federal waters off Texas (85 FR 19396, April 7, 2020). Therefore, the TPWD must manage the remainder of the 2020 state waters season to ensure the Texas regional management area private angling component ACL is not exceeded.

Classification

NMFS issues this action pursuant to section 305(d) of the Magnuson-Stevens Act. This action is required under 50 CFR 622.23(b) which was issued pursuant to section 304(b) of the Magnuson-Stevens Act, and is exempt from review under Executive Order 12866.

These measures are exempt from the procedures of the Regulatory Flexibility Act because the temporary rule is issued without opportunity for prior notice and comment.

This action is based on the best scientific information available. The Assistant Administrator for NOAA Fisheries (AA) finds that the need to implement this action to reduce the private angling component ACL for the Texas regional management area constitutes good cause to waive the requirements to provide prior notice and opportunity for public comment on this temporary rule pursuant to the authority set forth in 5 U.S.C. 553(b)(B), because such procedures are unnecessary and contrary to the public interest. Such procedures are unnecessary because the rule implementing the post-season ACL adjustment authority has already been subject to notice and comment, and all that remains is to notify the public of the ACL overage adjustment. Such procedures are contrary to the public interest because a failure to implement the ACL overage adjustment immediately may result an overage of the Texas ACL in 2020 and less access to red snapper off the coast of Texas in 2021.

For the aforementioned reasons, the AA also finds good cause to waive the 30-day delay in the effectiveness of the action under 5 U.S.C. 553(d)(3).

Authority: 16 U.S.C. 1801 et seq.

Dated: August 19, 2020.
Jennifer M. Wallace,
Acting Director, Office of Sustainable Fisheries, National Marine Fisheries Service.

[FR Doc. 2020-18526 Filed 8-19-20; 4:15 pm]

BILLING CODE 3510-22-P